ENVIRONMENTAL PROTECTION AGENCY

[EPA-HQ-OPP-2025-0027; FRL-12822-01-OCSPP]

Agile Decision Science, LLC, Savan Group LLC and Maines; Transfer of Information Potentially Containing Confidential Business Information

AGENCY: Environmental Protection Agency (EPA).

ACTION: Notice.

SUMMARY: This document announces that certain information submitted to the Office of Pesticide Program in the Environmental Protection Agency (EPA or Agency) under the Federal Insecticide, Fungicide, and Rodenticide Act (FIFRA) and the Federal Food, Drug, and Cosmetic Act (FFDCA), including information that may have been claimed as confidential business information (CBI) by the submitter, will be transferred to Agile Decision Science, LLC, Savan Group LLC and Maines in accordance with the CBI regulations. These entities have been awarded multiple contracts to perform work for OPP, and access to this information will enable these entities to fulfill the obligations of the contract.

DATES: Access to the information will occur no sooner than June 23, 2025 and is expected to continue in accordance with the terms of the contract as discussed in this document.

FOR FURTHER INFORMATION CONTACT: William Northern, Information Technology and Resources Management Division (7502P), Office of Pesticide Programs, Environmental Protection Agency, 1200 Pennsylvania Ave. NW, Washington, DC 20460-0001; telephone number: (202) 566-1493 email address: northern.william@epa.gov.

SUPPLEMENTARY INFORMATION:

I. General Information

A. Does this action apply to me?

This action applies to the public in general. This action may, however, be of particular interest to those who submit certain information or data to EPA under FIFRA and FFDCA. Since other entities may also be interested, the Agency has not attempted to describe all the specific entities that may be affected by this action.

B. What is the Agency's authority for taking this action?

In accordance with 40 CFR 2.306(j), EPA has determined that the EPA contracts identified in Unit II. require that the contractors identified in Unit II. have access to certain information submitted to EPA under FIFRA and FFDCA, including information that may have been claimed as CBI by the submitter. To perform successfully the duties specified under the contracts, personnel of the contractors will be given access to information, including information claimed or determined to be CBI information submitted to EPA.

C. What action is the Agency taking?

EPA is issuing this document to inform all submitters of information to EPA under FIFRA and FFDCA that EPA will provide the identified contractors with access to the CBI materials on a need-to-know basis only. The information is contained in documents that have been submitted to EPA, including information that has been claimed to be, or determined to potentially contain, CBI. The information may also include scientific studies subject to the disclosure restrictions of FIFRA section 10(g), 7 U.S.C. 136h(d).

All documents that may be subject to release restrictions under federal law will be designated as “Protected Information” in the list of record materials provided to the contractors. The contracts preclude public disclosure of any such documents by the contractors who have received the information from EPA. At the conclusion of the contracts, the contractors are required to destroy or return the CBI materials to EPA.

II. Contract Information

Under these contract numbers identified in this unit, the contractor will perform the following:

1. Contract No. 68HERD23D0003. In this arrangement, the EPA Office of Mission Support (OMS) serves as the lead partner by assuming primary responsibility for coordination of the partnership, as well as management and administration of the EPA Docket Center Services Task Order (TO). Accordingly, the OMS representative serves as the Task Order Contracting Officer's Representative (TOCOR) for the overall TO.

2. Contract No. 68HERC23A0004. The accordance with the Performance Work Statement (PWS) 2/15/2025-12/31/2025) Product/Service Code: R617.Project Management Support. The contractor's Technical Project Manager or their designee shall develop and manage a project schedule for the tasks outlined in the contract, conduct a project kick-off meeting and associated activities, and provide formal status updates throughout the project's life.

3. Contract No. 47QFCA22F0018. Application Services provide support for all applications and collaborative service capabilities. These services include support for developing and implementing enterprise and departmental-level applications. These applications may be “cross-cutting” in nature, with inter-related service processing components extending across/beyond the enterprise, or unique to a particular agency/department's mission requirements.

These contracts involve no subcontractors.

OPP has determined that the contracts described in this document involve work that is being conducted in connection with FIFRA, in that pesticide chemicals will be the subject of certain evaluations to be made under this contract. These evaluations may be used in subsequent regulatory decisions under FIFRA. Some of this information may be entitled to confidential treatment. The information has been submitted to EPA under FIFRA sections 3, 4, 6, and 7 and under FFDCA sections 408.

In accordance with the requirements of 40 CFR 2.307(h)(3), the contracts prohibit use of the information for any purpose not specified in these contracts; prohibits disclosure of the information to a third party without prior written approval from the Agency; and requires that each official and employee of the contractor sign an agreement to protect the information from unauthorized release and to handle it in accordance with the FIFRA Information Security Manual.

In addition, the contractors are required to submit for EPA approval a security plan under which any CBI will be secured and protected against unauthorized release or compromise. No information will be provided to the contractors until the requirements in this document have been fully satisfied. Records of information provided to the contractors will be maintained by the EPA Project Officers for these contracts. All information supplied to the contractors by EPA for use in connection with these contracts will be returned to EPA when the contractors have completed the work.

Authority: 7 U.S.C. 136 et seq.; 21 U.S.C. 301 et seq.

Dated: June 11, 2025.
Hayley Hughes,
Director, Office of Program Support.

[FR Doc. 2025-10968 Filed 6-16-25; 8:45 am]

BILLING CODE 6560-50-P